DEPARTMENT OF COMMERCE

Foreign-Trade Zones Board

Order No. 1605

Expansion of Foreign-Trade Zone 272, Lehigh and Northampton Counties, Pennsylvania

Pursuant to its authority under the Foreign-Trade Zones Act of June 18, 1934, as amended (19 U.S.C. 81a-81u), the Foreign-Trade Zones Board (the Board) adopts the following Order:

Whereas, the Lehigh Valley Economic Development Corporation, grantee of Foreign-Trade Zone 272, submitted an application to the Board for authority to expand its zone to include an additional site (Site 8 163 acres) at the ProLogis Park 33, which would include Temporary Site T-1 on a permanent basis, in Northampton County, Pennsylvania, adjacent to the Lehigh Valley Customs and Border Protection port of entry (FTZ Docket 42-2008, filed 8/1/08);

Whereas, notice inviting public comment was given in the Federal Register (73 FR 46246, 8/8/08), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 272 is approved, subject to the FTZ Act and the Board's regulations, including Section 400.28, and subject to the Board's standard 2,000-acre activation limit for the overall general-purpose zone project.

Signed at Washington, DC, this 13th day of February 2009.

Ronald K. Lorentzen,
Acting Assistant Secretary of Commerce for Import Administration, Alternate Chairman, Foreign-Trade Zones Board.
Attest:
Andrew McGilvray,
Executive Secretary.

[FR Doc. E9-4236 Filed 2-26-09; 8:45 am]

BILLING CODE 3510-DS-S